DEPARTMENT OF ENERGY

Federal Energy Regulatory Commission

[Project No. 3562-026]

KEI (Maine) Power Management (III) LLC; Notice of Application Accepted for Filing and Soliciting Motions To Intervene and Protests

Take notice that the following hydroelectric application has been filed with the Commission and is available for public inspection.

a. Type of Application: Subsequent Minor License.

b. Project No.: 3562-026.

c. Date filed: July 29, 2021.

d. Applicant: KEI (Maine) Power Management (III) LLC (KEI Power).

e. Name of Project: Barker Mill Upper Hydroelectric Project (Upper Barker Project).

f. Location: On the Little Androscoggin River, in the City of Auburn, Androscoggin County, Maine.

g. Filed Pursuant to: Federal Power Act, 16 U.S.C. 791(a)-825(r).

h. Applicant Contact: Lewis C. Loon, General Manager, KEI (USA) Power Management Inc., 423 Brunswick Avenue, Gardiner, ME 04345; phone at (207) 203-3025; email at LewisC.Loon@krueger.com.

i. FERC Contact: Jody Callihan at (202) 502-8278 or jody.callihan@ferc.gov.

j. Deadline for filing motions to intervene and protests: on or before 5:00 p.m. Eastern Standard Time on November 16, 2025.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Barker Mill Upper Hydroelectric Project (P-3562-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The existing Barker Mill Upper Project consists of: (1) a 41-acre impoundment with a maximum storage capacity of 255 acre-feet at a normal maximum water surface elevation of 192 feet; ¹ (2) a dam consisting of (starting from the west bank): (a) a 43-foot-long concrete abutment; (b) a 40-foot-long gated spillway structure consisting of two, 18-foot high, 15-foot-wide steel Tainter gates; (c) an 86-foot-long, 24-foot-high stone masonry with concrete overlay overflow spillway with 3-foot-high wooden flashboards and a crest elevation of 192 feet at the top of the flashboards (189 feet when the flashboards are lowered); (d) a 31-foot-long concrete intake structure; and, (e) a 27-foot-long underground abutment; (3) a powerhouse containing a single 950-kilowatt turbine-generator unit; (4) a tailrace; (5) a 50-foot-long, 12.47-kilovolt transmission line; and (6) appurtenant facilities.

¹ All elevations are referenced to the North American Vertical Datum of 1988.

KEI Power filed a Settlement Agreement for the Barker's Mill Project (FERC No. 2808),² Upper Barker Project (FERC No. 3562), and Marcal Project (FERC No. 11482) (Settlement) executed by and between the licensee and the U.S. Department of Justice, the U.S. Fish and Wildlife Service, the National Marine Fisheries Service, the Maine Department of Marine Resources (Maine DMR), and the Maine Department of Inland Fisheries and Wildlife (Settlement Parties). The purpose of the Settlement is to resolve the parties' disagreements over the issues related to fish and aquatic resource management, including upstream and downstream passage measures for American eel, river herring, American shad, sea lamprey, and Atlantic salmon; minimum flow releases; and aquatic invasive species. Specifically, for the relicensing of the Upper Barker Project, the Settlement provides for: (1) coordinating the time frame for providing upstream and downstream fish passage at the Upper Barker Project; (2) aligning the minimum and seasonal flows at the Upper Barker and the Lower Barker Projects; (3) aligning the Upper Barker and Lower Barker Projects' license terms by extending the 40-year license term of the Lower Barker Project to 50 years and requesting a license term of 47 years for the Upper Barker Project; (4) establishing an off-license agreement to fund an Androscoggin Basin Stewardship Fund administered by Maine DMR to benefit spawning and rearing habitat in the basin; and (5) assuring, through an off-license agreement, the resources agencies' support for KEI Power's request for Low Impact Hydropower Institute certification for the Upper Barker Project.

² The Barker's Mill Project is also known as and referred to herein as the Lower Barker Project.

The Upper Barker Project is currently operated in run-of-river mode and generates 4,681 megawatt-hours annually.

m. A copy of the application can be viewed on the Commission's website http://www.ferc.gov, using the “eLibrary” link. Enter the docket number, excluding the last three digits in the sub-docket number field to access the document. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595, or OPP@ferc.gov.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural schedule: The application will be processed according to the following schedule. Revisions to the schedule will be made as appropriate.

Milestone | Target date
Issue Scoping Notice for comments | October 2025.
Scoping Comments due | November 2025.
Request Additional Information (if necessary) | December 2025.
Issue Notice of Ready for Environmental Analysis | December 2025.

Final amendments to the application must be filed with the Commission no later than 30 days from the issuance date of the notice of ready for environmental analysis.

Dated: September 16, 2025.
Debbie-Anne A. Reese,
Secretary.

[FR Doc. 2025-18198 Filed 9-18-25; 8:45 am]

BILLING CODE 6717-01-P